DEPARTMENT OF TRANSPORTATION

Federal Aviation Administration

14 CFR Part 71

[Docket No. FAA-2023-1022; Airspace Docket No. 23-AWA-3]

RIN 2120-AA66

Amendment of Class C Airspace; Dane County Regional Airport-Truax Field, Madison, WI

AGENCY: Federal Aviation Administration (FAA), DOT.

ACTION: Final rule.

SUMMARY: This action amends the Madison Dane County Regional Airport-Truax Field, WI, Class C airspace description to update the Dane County Regional Airport-Truax Field name and the geographic coordinates of the airport reference point (ARP) for the Dane County Regional Airport-Truax Field and Waunakee Airport, WI, to match the FAA's National Airspace System Resources (NASR) database information. Additionally, this action amends the airspace description by updating the header format and replacing the outdated terms “Notice to Airmen” and “Airport/Facility Directory” with the current terminology. This action does not change the boundaries, altitudes, or operating requirements of the Class C airspace area.

DATES: Effective date 0901 UTC, October 5, 2023. The Director of the Federal Register approves this incorporation by reference action under 1 CFR part 51, subject to the annual revision of FAA Order JO 7400.11 and publication of conforming amendments.

ADDRESSES: A copy of this final rule and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the information in the Madison Dane County Regional Airport-Truax Field, WI, Class C airspace description.

History

During a review of the Madison Dane County Regional Airport-Truax Field, WI, Class C airspace description, the FAA identified the need to update the airport name, the ARP geographic coordinates for the Dane County Regional Airport-Truax Field and the Waunakee Airport, and replace the outdated terms “Notice to Airmen” and “Airport/Facility Directory”.

Incorporation by Reference

Class C airspace areas are published in paragraph 4000 of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by updating the Madison Dane County Regional Airport-Truax Field, WI, Class C airspace description as published in FAA Order JO 7400.11G, Airspace Designations and Reporting Points. The airport name “Dane County Regional Airport-Truax Field” is changed to “Dane County Regional/Truax Field,” to match the Airport Master Record database, and the ARP geographic coordinates are updated from “lat. 43°08′22″ N, long. 89°20′14″ W” to “lat. 43°08′24″ N, long. 089°20′15″ W.” The ARP geographic coordinates for the Waunakee Airport are updated from “lat. 43°11′00″ N, long 89°27′00″ W” to “lat. 43°10′43″ N, long. 089°27′05″ W.” The ARP coordinates updates are made to match the FAA's NASR database information. The airport name is removed from the first line in the text header of the description leaving just the city and state location of the airport. These changes follow the current formatting standard. In the body of the Class C description, the outdated term “Notice to Airman” is replaced by “Notice to Air Missions” and the outdated term “Airport/Facility Directory” is replaced by “Chart Supplement.”

This action consists of administrative changes only and does not affect the boundaries, altitudes, or operating requirements of the airspace. Therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of making administrative edits to the Madison Dane County Regional Airport-Truax Field, WI, Class C airspace description qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, effective September 15, 2022, is amended as follows:

Paragraph 4000 Class C Airspace.

* * * * *

AGL WI C Madison, WI [Amended]

Dane County Regional/Truax Field, WI

(Lat. 43°08′24″ N, long. 89°20′15″ W)

Waunakee Airport, WI

(Lat. 43°10′43″ N, long 89°27′05″ W)

That airspace extending upward from the surface to and including 4,900 feet MSL within a 5-mile radius of the Dane County Regional/Truax Field excluding that airspace within a 1½-mile radius of the Waunakee Airport; and that airspace extending upward from 2,300 feet MSL to and including 4,900 feet MSL within a 10-mile radius of the Dane County Regional/Truax Field. This Class C airspace area is effective during the specific dates and times established in advance by a Notice to Air Missions. The effective date and time will thereafter be continuously published in the Chart Supplement.

* * * * *

Issued in Washington, DC, on June 12, 2023.
Brian Konie,
Acting Manager, Airspace Rules and Regulations.

[FR Doc. 2023-12858 Filed 6-15-23; 8:45 am]

BILLING CODE 4910-13-P